DEPARTMENT OF ENERGY

Federal Energy Regulatory Commission

[Docket No. ER01-202-000]

Potomac Power Resources, Inc.; Notice of Issuance of Order

December 15, 2000.

On October 23, 2000, Potomac Power Resources, Inc. (PPR) filed with the Commission a proposed tariff that covered, among other matters, the sale of wholesale power and ancillary services at market-based rates. In its filing, PPR also requested certain waivers and authorizations. In particular, PPR requested that the Commission grant blanket approval under 18 CFR Part 34 of all future issuances of securities and assumptions of liabilities by PPR. On December 13, 2000, the Commission issued an Order Accepting For Filing Proposed Market-Based Rate Tariff And Proposed Service Agreements And Granting Waiver Of The Code Of Conduct (Order), in the above-docketed proceeding.

The Commission's December 13, 2000 Order granted the request for blanket approval under Part 34, subject to the conditions found in Ordering Paragraphs (E), (F), and (H):

(E) Within 30 days of the date of issuance of this order, any person desiring to be heard or to protest the Commission's blanket approval of issuances of securities or assumptions of liabilities by PPR should file a motion to intervene or protest with the Federal Energy Regulatory Commission, 888 First Street, NE., Washington, DC 20426, in accordance with Rules 211 and 214 of the Commission's Rules of Practice and Procedure, 18 CFR 385.211 and 385.214.

(F) Absent a request to be heard within the period set forth in Ordering Paragraph (E) above, PPR is hereby authorized to issue securities and assume obligations and liabilities as guarantor, indorser, surety or otherwise in respect of any security of another person; provided that such issue or assumption is for some lawful object within the corporate purposes of PPR, compatible with the public interest, and reasonably necessary or appropriate for such purposes.

(H) The Commission reserves the right to modify this order to require a further showing that neither public nor private interests will be adversely affected by continued Commission approval of PPR's issuances of securities or assumptions of liabilities * * *.

Notice is hereby given that the deadline for filing motions to intervene or protests, as set forth above, is January 16, 2001.

Copies of the full text of the Order are available from the Commission's Public Reference Branch, 888 First Street, NW., Washington, DC 20426. The Order may also be viewed on the Internet at ­ http://www.ferc.fed.us/online/rims.htm (call 202-208-2222 for assistance).

David P. Boergers,
Secretary.

[FR Doc. 00-32532 Filed 12-20-00; 8:45 am]

BILLING CODE 6717-01-M